DEPARTMENT OF AGRICULTURE

Submission for OMB Review; Comment Request; Correction

AGENCY: National Institute of Food and Agriculture, Department of Agriculture.

ACTION: Notice; correction.

SUMMARY: The National Institute of Food and Agriculture, Department of Agriculture, published a document in the Federal Register of May 3, 2023, concerning request for comments on Small Business Innovation Research Program. The document contained an incorrect number of respondents and total burden hours.

SUPPLEMENTARY INFORMATION:

Correction

In the Federal Register of May 3, 2023, in FR Doc 2023-09324, on page 27857, in the second column, correct the Number of Respondents: to read 403 and correct the Total Burden Hours: to read 70.

Ruth Brown,
Departmental Information Collection Clearance Officer.

[FR Doc. 2023-10186 Filed 5-11-23; 8:45 am]

BILLING CODE 3410-09-P